DEPARTMENT OF HEALTH AND HUMAN SERVICES

National Institutes of Health

National Institute of Dental & Craniofacial Research; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and/or contract proposals and the discussions could disclose confidential trade secrets or commercial property such as patentable material, and personal information concerning individuals associated with the grant applications and/or contract proposals, the disclosure of which would constitute a clearly unwarranted invasion of personal privacy.

Name of Committee: National Institute of Dental and Craniofacial Research Special Emphasis Panel, 01-44, Review of P01s.

Date: July 11-12, 2001.

Time: 8 a.m. to 5 p.m.

Agenda: To review and evaluate grant applications and/or proposals.

Place: Embassy Suites, 4300 Military Road, NW., Chevy Chase, MD 20015.

Contact Person: H. George Hausch, PhD, Chief, 4500 Center Drive, Natcher Building, Rm. 4AN44F, National Institutes of Health, Bethesda, MD 20892, (301)594-2372.

Name of Committee: National Institute of Dental and Craniofacial Research Special Emphasis Panel, 01-45, review of P01.

Date: July 17-18, 2001.

Time: 8:30 a.m. to 5 p.m.

Agenda: To review and evaluate grant applications and/or proposals.

Place: Hyatt Regency, One Metro Center, Bethesda, MD 20814.

Contact Person: H. George Hausch, PhD, Chief, 4500 Center Drive, Natcher Building, Rm. 4AN44F, National Institutes of Health, Bethesda, MD 20892, (301) 594-2372.

Name of Committee: National Institute of Dental and Craniofacial Research Special Emphasis Panel, 01-64, Review of R44s.

Date: August 2, 2001.

Time: 10 a.m to 12 p.m.

Agenda: To review and evaluate grant applications.

Place: 45 Center Drive Natcher Building, Conference Room C, Bethesda, MD 20892 (Telephone Conference Call).

Contact Person: Philip Washko, PhD, DMD, Scientific Review Administrator, 45 Center Drive, Natcher Building, Rm. 4AN44F, National Institutes of Health, Bethesda, MD 20892, (301) 594-2372.

Name of Committee: National Institute of Dental and Craniofacial Research Special Emphasis Panel, 01-60, Review of RFA DE-01-001.

Date: August 6, 2001.

Time: 8:30 a.m. to 5 p.m.

Agenda: To review and evaluate grant applications and/or proposals.

Place: Ritz Carlton Pentagon City, 1250 South Hayes Street, Arlington, VA 22202.

Contact Person: Anna Sandberg, PhD, Scientific Review Administrator, National Institute of Dental & Craniofacial Res., 45 Center Drive, Natcher Building, Rm 4AN44F, Bethesda, MD 20892, (301) 594-3089.

Name of Committee: National Institute of Dental and Craniofacial Research Special Emphasis Panel, 01-59, Review of R44 Grants.

Date: August 14, 2001.

Time: 1 p.m. to 3 p.m.

Agenda: To review and evaluate grant applications.

Place: 45 Center Drive, Natcher Building, Conference Room H, Bethesda, MD 20892, (Telephone Conference Call).

Contact Person: Philip Washko, PhD, DMD, Scientific Review Administrator, 45 Center Drive, Natcher Building, Rm. 4AN44F, National Institutes of Health, Bethesda, MD 20892, (301) 594-2372.

(Catalogue of Federal Domestic Assistance Programs Nos. 93.121, Oral Diseases of Disorders Research, National Institutes of Health, HHS)

Dated: June 25, 2001.
LaVerne Y. Stringfield,
Director, Office of Federal Advisory Committee Policy.

[FR Doc. 01-16761 Filed 7-3-01; 8:45 am]

BILLING CODE 4140-01-M